DEPARTMENT OF AGRICULTURE

Agricultural Marketing Service

[Doc. No. AMS-LP-20-0103]

Request for Extension and Revision of a Currently Approved Information Collection

AGENCY: Agricultural Marketing Service, USDA.

ACTION: Notice and request for comments.

SUMMARY: In accordance with the Paperwork Reduction Act of 1995, this notice announces the U.S. Department of Agriculture (USDA) Agricultural Marketing Service's (AMS) intent to request approval from the Office of Management and Budget (OMB) for an extension of and revision to the currently approved information collection used in support of the Regulations Governing the Inspection of Eggs (as authorized by the Egg Products Inspection Act (EPIA)), which is commonly referred to as the Shell Egg Surveillance Program (OMB: 0581-0113).

DATES: Comments must be received by May 25, 2021.

ADDRESSES: Interested persons are invited to submit comments concerning this notice by using the electronic process available at www.regulations.gov. Written comments may also be submitted to Quality Assessment Division; Livestock and Poultry Program; AMS, USDA; 1400 Independence Avenue SW, Stop 0258; Washington, DC 20250-0258. All comments should reference the docket number AMS-LP-20-0103, the date of submission, and the page number of this issue of the Federal Register. All comments received will be posted without change, including any personal information provided, at www.regulations.gov and will be made available for public inspection at the above physical address during regular business hours.

FOR FURTHER INFORMATION CONTACT: Julie Hartley, Branch Chief, Quality Assessment Division; (202) 720-7316; or Julie.hartley@usda.gov.

SUPPLEMENTARY INFORMATION:

Overview of This Information Collection

(1) Agency: USDA, AMS.

(2) Title: Regulations for the Inspection of Eggs (Egg Products Inspection Act).

(3) OMB Number: 0581-0113.

(4) Expiration Date of Approval: June 30, 2021.

(5) Type of Request: Request for extension of and revision of a currently approved information collection.

(6) Abstract: Congress enacted the EPIA (21 U.S.C. 1031-1056) to provide, in part, a mandatory inspection program to control the disposition of dirty and checked shell eggs; to control unwholesome, adulterated, and inedible shell eggs that are unfit for human consumption; and to control the movement and disposition of imported shell eggs.

The EPIA authorized USDA to issue regulations describing how this function would be carried out to ensure that only eggs fit for human consumption are used for such purposes. To this end, USDA published the EPIA, commonly referred to as the Shell Egg Surveillance Program, in 7 CFR part 57.

Under the Shell Egg Surveillance Program, shell egg handlers and hatcheries are required to register with USDA. A State or Federal surveillance inspector visits each registered handler quarterly to verify that shell eggs packed for consumer use are in compliance with the regulations (e.g., restricted eggs are not used for human consumption, storage temperatures are maintained at 45 degrees ambient, etc.), that restricted eggs are being disposed of properly, and that adequate records are being maintained.

The information and recordkeeping requirements in this request are essential to carry out the intent of Congress, to administer the mandatory inspection program, and to take regulatory action, in accordance with the regulations and the EPIA. The forms within this collection package require the minimum information necessary to effectively carry out the requirements of the regulations, and their use is necessary to fulfill the intent of the EPIA.

The information collected is used only by authorized representatives of the AMS Livestock and Poultry Program's Quality Assessment Division, which includes State agencies authorized to conduct inspections on AMS' behalf. The information is only used to verify compliance with the EPIA and the regulations, and it is used to facilitate regulatory action. AMS is the primary user of the information; secondary users include each authorized State agency that has a cooperative agreement with AMS. There have been no changes in the Shell Egg Surveillance Program or in the information collection requirements. There is an overall decrease of −462.85 burden hours and a decrease of 45 respondents from the previous submission primarily due to industry consolidation.

(7) Estimate of Burden: Public reporting burden for this collection of information is estimated to average .28 hours per response.

(8) Respondents: Businesses or other for-profits, and small businesses or organizations.

(9) Estimated Number of Respondents: 760.

(10) Estimated Number of Responses per Respondent: 7.

(11) Estimated Total Annual Responses: 5,235.50.

(12) Estimated Total Annual Burden on Respondents: 1,479.43 hours.

Comments are invited on: (1) Whether the proposed collection of information is necessary for the proper performance of the functions of AMS, including whether the information will have practical utility; (2) the accuracy of AMS' estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All responses will become a matter of public record, including any personal information provided.

Bruce Summers,
Administrator, Agricultural Marketing Service.

[FR Doc. 2021-06226 Filed 3-25-21; 8:45 am]

BILLING CODE P